DEPARTMENT OF LABOR

Employment and Training Administration

Agency Information Collection Activities; Comment Request for Federal-State Unemployment Insurance Program Data Exchange Standardization

ACTION: Notice.

SUMMARY: The Department of Labor (DOL) Employment And Training Administration (ETA) is soliciting comments concerning a proposed extension for the authority to conduct the information collection request (ICR) titled, “Federal-State Unemployment Insurance Program Data Exchange Standardization.” This comment request is part of continuing Departmental efforts to reduce paperwork and respondent burden in accordance with the Paperwork Reduction Act of 1995 (PRA), 44 U.S.C. 3501 et seq.

DATES: Consideration will be given to all written comments received by November 1, 2016.

ADDRESSES: A copy of this ICR with applicable supporting documentation; including a description of the likely respondents, proposed frequency of response, and estimated total burden may be obtained free by contacting Subri Raman by telephone at 202-693-3058, (this is not a toll-free number) or by email at raman.subri@dol.gov.

Submit written comments about, or requests for a copy of, this ICR by mail or courier to the U.S. Department of Labor, Employment And Training Administration, 200 Constitution Ave. NW., Washington, DC 20210; by email: raman.subri@dol.gov; or by Fax 202-693-3975.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

On February 22, 2012, the President signed the Middle Class Tax Relief and Job Creation Act of 2012 (78 FR 12655). Section 2104 of the Act amends Title IX, SSA (42 U.S.C. 1111 et seq.) by adding a new section 911, which requires the Department to issue rules, developed in consultation with an interagency workgroup established by the OMB, that establish data exchange standards for certain functions related to administration of the UI program. The Act authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Federal-State Unemployment Insurance Program Data Exchange Standardization, OMB control number 1205-0510.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Federal-State Unemployment Insurance Program Data Exchange Standardization.

Form: N/A.

OMB Control Number: 1205-0510.

Affected Public: State Workforce Agencies.

Estimated Number of Respondents: 53.

Frequency: Once.

Total Estimated Annual Responses: 53.

Estimated Average Time per Response: 120 hours.

Estimated Total Annual Burden Hours: 6,360 hours.

Total Estimated Annual Other Cost Burden: $0.

Authority: 44 U.S.C. 3506(c)(2)(A).

Portia Wu,
Assistant Secretary for Employment and Training Administration.

[FR Doc. 2016-21110 Filed 9-1-16; 8:45 am]

BILLING CODE 4510-FW-P